DEPARTMENT OF LABOR

Employment and Training Administration

[TA-W-62,858]

Household Utilities, Inc., Kiel, WI; Notice of Revised Determination on Reconsideration

On April 17, 2008, the Department issued an Affirmative Determination Regarding Application on Reconsideration applicable to workers and former workers of the subject firm. The notice was published in the Federal Register on April 23, 2008 (73 FR 21988).

The previous investigation initiated on February 15, 2008, resulted in a negative determination issued on March 5, 2008, was based on the finding that sales and production of industrial parts, medical carts and medical cabinets increased in 2007 as compared to 2006 and no shift in production to a foreign source occurred. The denial notice was published in the Federal Register on March 21, 2008 (73 FR 15218).

In the request for reconsideration, the petitioner alleged that sales and production decreased in 2008 and customers of the subject firm shifted production abroad.

The Department requested from the subject firm sales and production information for January and February 2008. New information revealed that sales and production of industrial parts, medical carts and medical cabinets decreased in January and February 2008 when compared with the same period in 2007.

Upon further investigation it has also been determined that Household Utilities, Inc., Kiel, Wisconsin, supplied industrial parts for marine outboard motors and plastic molded parts, and at least 20 percent of its production or sales is supplied to a manufacturer whose workers were certified eligible to apply for adjustment assistance. The parts supplied were related to the article that was the basis of certification.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that workers of Household Utilities, Inc., Kiel, Wisconsin, qualify as adversely affected secondary workers under Section 222 of the Trade Act of 1974, as amended. In accordance with the provisions of the Act, I make the following certification:

All workers of Household Utilities, Inc., Kiel, Wisconsin, who became totally or partially separated from employment on or after February 13, 2007, through two years from the date of this certification, are eligible to apply for adjustment assistance under Section 223 of the Trade Act of 1974, and are also eligible to apply for alternative trade adjustment assistance under Section 246 of the Trade Act of 1974.

Signed in Washington, DC, this 29th day of May 2008.
Elliott S. Kushner,
Certifying Officer, Division of Trade Adjustment Assistance.

[FR Doc. E8-12391 Filed 6-3-08; 8:45 am]

BILLING CODE 4510-FN-P